ENVIRONMENTAL PROTECTION AGENCY

[EPA-HQ-OW-2024-0482; FRL-12390-01-OW]

Agency Information Collection Activities; Proposed Information Collection Request; Comment Request; 2022 National Pollutant Discharge Elimination System (NPDES) Construction General Permit (CGP) for Stormwater Discharges From Construction Activities (Renewal)

AGENCY: Environmental Protection Agency (EPA).

ACTION: Notice.

SUMMARY: The Environmental Protection Agency (EPA) is planning to submit an information collection request (ICR), 2022 National Pollutant Discharge Elimination System (NPDES) Construction General Permit (CGP) for Stormwater Discharges from Construction Activities (Renewal) (EPA ICR Number 2686.03, OMB Control Number 2040-0305) to the Office of Management and Budget (OMB) for review and approval in accordance with the Paperwork Reduction Act (PRA). Before doing so, EPA is soliciting public comments on specific aspects of the proposed information collection as described below. This is a proposed renewal of the current ICR, which is currently approved through February 28, 2025. This notice allows for 60 days for public comments.

DATES: Comments must be submitted on or before January 13, 2025.

ADDRESSES: Submit your comments, referencing Docket ID Number EPA-HQ-OW-2024-0482 to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Greg Schaner, Water Permits Division, Office of Wastewater Management, Office of Water at telephone number: (202) 564-0721 or email address: schaner.greg@epa.gov.

SUPPLEMENTARY INFORMATION: This is a proposed renewal of the current ICR, which is currently approved through February 28, 2025. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: EPA issued the 2022 National Pollutant Discharge Elimination System (NPDES) general permit for stormwater discharges from construction activities, also referred to as the “2022 Construction General Permit,” or the “2022 CGP,” on February 17, 2022. The 2022 CGP is issued for five (5) years to provide permit coverage to eligible construction operators in all areas of the country where EPA is the NPDES permitting authority.

The current ICR for the 2022 CGP expires on February 28, 2025. This proposed ICR will renew the existing ICR prior to expiration. The proposed ICR renewal will further EPA's specific needs to collect data related to the 2022 CGP, which include the following:

• To provide information supporting operator eligibility to be covered by the permit;

• To provide information to EPA and states to prioritize permit activities;

• To provide information on the quality of dewatering discharges to sensitive waters;

• To determine whether operators are in compliance with permit conditions; and

• To provide information to EPA to determine the need for and develop permit conditions.

The burden and costs associated with the entire NPDES program, including the administration of the 2017 CGP, are accounted for in the 2017 NPDES Program ICR (EPA ICR number 0229.23 OMB control no. 2040-0004). Certain changes in the 2022 CGP required revisions to the NPDES Program ICR to reflect changes to the information collection requirements. Consistent with the past approach of changes to the NPDES Program, EPA reflected the paperwork burden and costs associated with the difference between the 2022 CGP and the 2017 CGP instead of revising the NPDES Program ICR. EPA will consolidate the burden and costs into the NPDES Program ICR (and discontinue this ICR) in a future reissuance of the NPDES Program ICR.

The information collection changes between the 2017 CGP and the 2022 CGP that is captured in the current ICR are associated with the following:

• New notice of intent (NOI) questions;

• New notice of termination (NOT) documentation requirements;

• New dewatering inspection requirements;

• New turbidity benchmark monitoring requirements for sites discharging dewatering water to sensitive waters; and

• Changes to Stormwater Pollution Prevention Plan (SWPPP) requirements, related to new and modified permit requirements.

Form Numbers: Notice of Intent (NPDES Form 3510-9), Notice of Termination (NPDES Form 3510-13), Turbidity Monitoring Reporting Form (NPDES Form 6100-065), Suggested Cationic Treatment Chemicals Form (NPDES Form 6100-066).

Respondents/affected entities: Coverage under the 2022 CGP is available to “operators” of construction activities in areas where EPA is the permitting authority and where the general permit is available for use. A list of eligible areas is included in appendix B of the 2022 CGP. The majority of construction activities will be carried out by builders, local developers, and contractors. Relevant Standard Industrial Classification (SIC) codes include the following: 1531, 1541, 1542, 1611, 1622, 1623, and 1629.

Respondent's obligation to respond: Mandatory under NPDES permits issued pursuant to Clean Water Act, 33 U.S.C. 1342(p) et seq.

Estimated number of respondents: EPA estimates that for the duration of the three-year ICR period approximately 10,893 operators will obtain coverage under the 2022 CGP, or 3,631 operators per year.

Frequency of response: Response frequencies in the 2022 CGP vary from once per permit term to quarterly.

Total estimated burden: EPA estimates that the information collection burden of the 2022 CGP is 200,383 hours per year. Burden is defined at 5 CFR 1320.03(b).

Total estimated cost: EPA estimates that the final information collection cost of the 2022 CGP is $15,610,581 per year.

Changes in the Estimates: The change in estimated burden between the current and renewal ICRs are attributable to the change in the number of respondents from 2,600 to 3,631 operators per year, which is based on the more accurate information EPA now has on the number of permitted operators from the first two years of the 2022 CGP. The change in the number of estimated respondents led to an increase in burden hours of 57,872 hours per year. Additionally, the labor rates used to calculate the estimated costs increased from $62.77 per hour from the current ICR to $73.47 per hour for the renewal ICR, which, combined with the increase in number of respondents, is the reason for the increase in total estimated cost of $5,973,563 per year (i.e., the difference between the estimated total cost of the renewal ICR of $15,610,581 and the current ICR of $9,637,018).

Andrew D. Sawyers,
Director, Office of Wastewater Management, U.S. EPA.

[FR Doc. 2024-26404 Filed 11-13-24; 8:45 am]

BILLING CODE 6560-50-P